DEPARTMENT OF DEFENSE

Department of the Army, Corps of Engineers

Request for Comments on the Draft Estuary Habitat Restoration Strategy Prepared by the Estuary Habitat Restoration Council

AGENCY: Department of the Army, Army Corps of Engineers, DoD.

ACTION: Notice; request for comments.

SUMMARY: The Corps of Engineers on behalf of the interagency Estuary Habitat Restoration Council is soliciting comments on the draft “Estuary Habitat Restoration Strategy.”

DATES: Submit comments on or before June 17, 2002.

ADDRESSES: Send comments to Estuary Habitat Restoration Strategy, U.S. Army Corps of Engineers, Institute for Water Resources, 7701 Telegraph Road, Casey Building, Alexandria, Virginia, 22315-3868. See SUPPLEMENTARY INFORMATION section for electronic filing address.

FOR FURTHER ASSISTANCE CONTACT: Ms. Ellen Cummings, Headquarters, U.S. Army Corps of Engineers, Washington, DC 20314-1000, (202) 761-4558; or Ms. Cynthia Garman-Squier, Office of the Assistant Secretary of the Army (Civil Works), Washington, DC, (703) 695-6791.

SUPPLEMENTARY INFORMATION: The Estuary Restoration Act of 2000, Title I of Public Law 106-457 has four purposes: (1) Promotion of estuary habitat restoration; (2) development of a national strategy for creating and maintaining effective estuary habitat restoration partnerships; (3) provision of Federal assistance for estuary habitat restoration projects; and (4) development and enhancement of monitoring and research capabilities to ensure that estuary habitat restoration efforts are based on sound scientific understanding and innovative technologies. The Act authorizes an estuary habitat restoration program for implementation of Federal assistance through cost-shared estuary habitat restoration projects. The Act authorizes funds to be appropriated to Army for this program. Funds were also authorized for the National Oceanic and Atmospheric Administration to establish a database of restoration project information and to develop monitoring data standards. The Estuary Habitat Restoration Council consisting of representatives from Department of the Army, National Oceanic and Atmospheric Administration, the Environmental Protection Agency, United States Fish and Wildlife Service, and the Department of Agriculture was established to oversee these activities.

The Council is charged to develop an estuary habitat restoration strategy designed to ensure a comprehensive approach to maximize benefits and foster coordination of Federal and non-Federal activities. The goal of the strategy is restoration of 1,000,000 acres of estuary habitat by the year 2010. Elements of the draft strategy are discussed in section 106(d) of the Act. The intent of this notice is to obtain comments on the draft strategy prepared by the Estuary Habitat Restoration Council in accordance with these requirements.

While the authorized estuary habitat restoration program is discussed in this draft strategy, the implementation process for solicitation and review of project proposals and evaluation criteria will be the subject of a separate notice at a later date. The strategy is also not intended to be the forum for a detailed discussion of the monitoring data standards, but does include a discussion of the need for monitoring.

The Council is looking for comments on the entire strategy, including any omissions. The following questions have been developed to indicate areas where additional discussion may be beneficial. However, these questions are not intended to limit the nature and content of the comments you may wish to provide.

a. Introduction, Paragraph 3—Calls for supporting restoration activities that create self-sustaining systems integrated into the surrounding landscapes. What criteria should the Council use in evaluating whether a project is “self-sustaining”?

b. Introduction, Paragraph 5—Interprets the definition of “estuary” that is set forth in the Act. Is the definition of “estuary” contained in this paragraph consistent with how you would define estuary? If not, why not? What definition would you propose using, consistent with the intent of the Act? Should the Council provide more guidance on defining the boundaries of an estuary? If so, what would you propose?

c. Introduction, Paragraph 6—For measuring progress toward the one million acre goal, “restored area” is considered to be the area where monitoring can document restored function. Is this a realistic measurement of progress? What other means would you suggest be used to measure progress toward the goal and why?

d. Trends of Estuary Habitats, Paragraph 3—States that the Council will develop a habitat classification system based on Cowardin et al. to address habitat trends as required in the Act. The Federal Geographic Data Committee has adopted Cowardin as the Federal standard for wetland mapping, monitoring and data reporting. Does Cowardin address all components of estuary habitat for which status and trends data should be developed and for which monitoring data should be tracked? If not, what components are missing? What classification systems are currently being used by States and others who track status and trends information?

e. Trends of Estuary Habitats, Paragraph 6—Directs the Council, within two years, to review estuary habitat trends data and identify data gaps. What information should be included in the Council's review of trends data? What are the most significant gaps in habitat trends data, either geographically or in terms of habitat types, which should be addressed by the Council?

f. Trends of Estuary Habitats, Paragraph 6—States that trends data collected by the Council will be used to establish restoration priorities. Should the Council use trends data to establish national and regional restoration priorities? If yes, how should the data be used and which types of information are most critical? If no, how should national and regional priorities be identified?

g. Trends of Estuary Habitats, Paragraph 7—Encourages organizations preparing or updating estuary management and restoration plans to incorporate available trends data and use it to plan priorities. Are there good examples of trends data collection by local or regional groups?

h. Estuary Management or Habitat Restoration Plans, Paragraphs 2-5—Describes seven elements that are typically found in effective estuary habitat restoration plans. Should there be other minimum requirements used to identify effective restoration plans? If so, what do you think they are?

i. Ecosystem Level Approach, Paragraph 5—Directs the Council in its review of project proposals to support projects developed in an ecosystem context with multiple benefits. What do you believe would indicate that an ecosystem approach has been used in project planning?

j. Partnerships, Paragraph 3—Calls for collaboration among government and non-government entities involved in habitat restoration. How can collaboration among agencies, private organizations and individuals be improved to ensure that all interested parties are involved and in a position to contribute to the restoration effort?

k. Partnerships, Paragraph 4—Encourages the use of awards to encourage restoration partnerships and the involvement of volunteers. Would a national process be beneficial for granting awards or should the process be developed locally by project partners? Should such a process be run by a Federal agency?

l. Partnerships, Paragraph 7—Encourages Council members and private partners to use web sites to provide the public with information on funding for estuary restoration projects. Should a Federal agency develop a national Web site that would act as a clearinghouse to other Web sites?

m. Habitat Restoration Program, Paragraph 2—Describes habitat restoration activities that are eligible for funding under the Act. Are the categories of included activities (1) sufficient to achieve the Act's goal of restoring one 4 million acres of estuary habitat by 2010 and (2) inclusive of all critical restoration activities that are not specifically excluded by the Act? If not, which additional activities should be considered?

n. Habitat Restoration Program, Paragraph 4—The Council and the Secretary may consider additional factors, other than those set forth in the Act, for project evaluation, ranking, and selection. What additional factors should the Secretary and the Council consider?

o. Habitat Restoration Program, Paragraph 6—Defines a small project as generally one with a Federal cost of $250,000 or less and that manipulates 50 acres or less. Is this definition adequate for balancing small and large projects in the program?

p. Ensuring Success, Paragraph 5—Encourages local, State and regional groups to monitor on an estuary or regional scale. How can restoration success be documented over estuary or regional scales (especially considering funding constraints and the level of effort that might be required)?

q. Ensuring Success, Paragraph 7—Directs NOAA to establish standard data formats for project monitoring and to maintain a database on restoration projects. What existing monitoring standards and guidance are available that should be considered in developing monitoring requirements under the Act? What existing restoration 5 project databases already exist that could serve as a model for the database to be created for the Estuary Restoration Act?

Electronic Filing Address. You may submit comments by e-mail to: estuary@usace.army.mil. Comments should be in one of the following formats: Word, WordPerfect, or ASCII. The subject line for submission of comments should begin with “Estuary Habitat Restoration Strategy comments from [insert name of agency, organization, or individual].”

Draft Estuary Habitat Restoration Strategy

Introduction

This draft Estuary Habitat Restoration Strategy (Strategy) has been developed in accordance with the requirements of the Estuary Restoration Act of 2000, Title I of Public Law 106-457 (the Act). The purpose of the Strategy is to ensure a comprehensive approach to maximize benefits derived from estuary habitat restoration projects, provide incentives for the creation of new partnerships between the public and private sectors, and foster coordination of Federal and non-Federal activities related to restoration of estuary habitat. The Act also provides Federal assistance, promotes efficient financing of technically sound and cost-effective estuary habitat restoration projects, and encourages the use of innovative technologies.

Congress enacted the Estuary Restoration Act to establish a collaborative process for addressing the pressures facing our Nation's estuaries. As part of the Act, an inter-agency Estuary Habitat Restoration Council (Council) was established to develop and submit the Strategy to Congress, solicit, review, and evaluate project proposals, and recommend projects to the Secretary of the Army. Much of the Council's work will involve soliciting and funding on-the-ground habitat restoration projects. The Strategy, however, is broader than site-specific restoration. It encourages coordinating, integrating, and capitalizing upon the broad spectrum of ongoing estuary restoration efforts throughout the country. Its goal is to bring together the collective expertise, technical, and financial resources of the Federal community, the practical experience of State, local and nongovernmental groups, and the vision of the corporate world to restore the integrity of our Nation's estuarine systems. The Federal investment will be used to leverage the financial and technical contribution of non-Federal partners, providing sound ecological and economic returns.

The Strategy calls for restoration activities that improve degraded estuaries or estuary habitat, or those that create estuary habitat with the goal of attaining a self-sustaining system integrated into the surrounding landscape. Restoration projects must improve or reestablish function to degraded or destroyed habitats, and be located to recapture regional ecological integrity. Successful restoration will protect native fish and wildlife in estuaries and their watersheds, while providing multiple additional benefits such as improved surface and ground water quality and quantity, flood control, outdoor recreation, and other services, valued by local stakeholders and consistent with the re-establishment and maintenance of healthy ecosystems.

The goal of the Strategy is to restore one million acres of estuary habitat by 2010. The Council will organize and support a task force to recommend methods for tracking progress toward the million-acre goal, including defining a baseline timeframe for comparison. The task force will consider regional and local perspectives on quantifying project successes. Subsequently, the Council will produce periodic reports on progress toward meeting the Strategy's million-acre goal, as well as other habitat trends.

The Act defines estuary as “a part of a river or stream or other body of water that has an unimpaired connection with the open sea and where the sea water is measurably diluted with fresh water from land drainage.” Estuary also includes the “* * * near coastal waters and wetlands of the Great Lakes that are similar in form and function to estuaries. * * *” For the purposes of this Strategy, estuary is considered to extend from the head of tide to the boundary with the open sea (to downstream terminus features or structures such as barrier islands, reefs, sand bars, mud flats, or headlands in close proximity to the connection with the open sea). In the Great Lakes, riparian and nearshore areas will be considered to be estuaries. Estuary habitat includes the estuary and its associated ecosystems, such as: salt, brackish, and fresh water coastal marshes, coastal forested wetlands and other coastal wetlands, maritime forests, coastal grasslands, tidal flats, natural shoreline areas, shellfish beds, sea grass meadows, kelp beds, river deltas, and river and stream corridors under tidal influence.

Some restoration projects can easily measure success in terms of acreage (for example, projects that plant vegetation), but many cannot (for example, projects that alter hydrology). By manipulating a relatively small area, the function of a much larger habitat area can be improved. For the purposes of this Strategy, therefore, the restored area will be defined as that area over which appropriate monitoring can document restored function.

The Estuary Habitat Restoration Council developed this Strategy building on work done by Council member agencies, environmental professionals, and private conservation organizations, including Restore America's Estuaries (RAE). In consultation with restoration professionals, scientists, academics, and nonprofit organizations, RAE has developed A National Strategy for Coastal and Estuarine Habitat Restoration. The document provides a framework for restoring function to estuarine and coastal habitats, which can aid in focusing restoration efforts to reach this Strategy's million-acre goal.

This Strategy is dynamic. It will evolve over time according to information collected through monitoring and research programs and feedback from restoration practitioners, scientists, and public agencies and private organizations. Reaching the one million acre goal will require further close coordination among the Federal partners, and state, local and private partners as habitat priorities, project efficiencies, and funding sources are identified.

Trends of Estuarine Habitats [This section covers 106(d)(4) and (5)]

Section 106(d) of the Estuaries and Clean Water Act of 2000 requires that the National Strategy include guidance on addressing trends of estuarine habitats. For each estuarine habitat type, the Strategy addresses historic losses, estimated current rate of loss, the extent of the threat of future loss or degradation, and a measurement of the rate of change.

Understanding trends as well as the structure, function and extent of various estuary habitats is key to an effective and efficient restoration program. Trends data provide a chronological and geographic picture of change in habitat types, thereby helping managers to recognize ecological stability or stress. They help to identify existing or potential habitat threats so that early action can be taken to avoid or rectify them. This information can be used to establish a baseline from which to quantify restoration success. By identifying both healthy and impaired ecosystems, trends information can help managers to target habitat restoration efforts in a cost-effective manner. For these reasons this Strategy will promote the development and use of trends data in designing restoration programs for estuary habitats.

Council member agencies use different terminology to describe estuarine habitat. The Council will use a classification system based on Cowardin et al. (1979). The Cowardin classification system is the national standard for wetland mapping, monitoring and data reporting as determined by the Federal Geographic Data Committee (http://www.fgdc.gov/). Examples of the relevant classes are: estuarine subtidal, including open water, bay bottoms, and reefs; estuarine intertidal emergents, such as salt marsh; estuarine intertidal forested/shrub, such as mangroves; estuarine intertidal unconsolidated shore, such as beaches, bars and mudflats; and estuarine aquatic bed, such as submerged or floating estuarine vegetation. Freshwater habitat categories to be included because they are estuarine-associated ecosystems or are found in the Great Lakes include: palustrine forested wetlands, such as forest swamps or riparian zones; palustrine shrub wetlands; and palustrine emergents, including inland marshes and wet meadows.

For purposes of this Strategy, estuary habitats will include the complex of physical and hydrologic features and living organisms within estuaries and their associated ecosystems, including salt and fresh water coastal marshes, coastal forested wetlands and other coastal wetlands, maritime forests, coastal grasslands, tidal flats, natural shoreline areas, shellfish beds, sea grass meadows, kelp bed, river deltas, and river and stream banks under tidal influence.

There are several studies that document estuary habitat trends on both a national and regional basis. For instance, Dahl (2000) summarized the status and trends of wetlands in the conterminous United States from 1986-1997. Three categories of estuarine and marine wetlands were included and together these comprise about five percent (5.3 million acres) of the total wetland acreage in the conterminous United States. During the study period, a net loss of 10,400 acres of estuarine and marine wetlands occurred. Filling or draining for urban and rural development accounted for 43 percent of estuarine and marine wetland losses, while saltwater intrusion accounted for an additional 12 percent of the loss.

Within two years, the Council will review information available for estuary habitats concerning historic losses, current rates of loss, the extent of the threat of future loss or degradation, and measures of the rate of change, and identify gaps in trends information that can be addressed by the Council members and/or its partners. Data collected will be used to identify regional and national restoration priorities based on this information.

Organizations and agencies preparing or updating estuary management or restoration plans should incorporate available information on estuary trends in their documents and consider this data when establishing project priorities. Among the sources of information to consult are historic maps and navigation charts, State and local agencies, available aerial photography and other remote sensing data, Federal agencies, such as the members of the Estuary Habitat Restoration Council and the United States Geological Survey, reports on Federal projects in estuaries, and universities conducting research in local estuaries.

It is also important to collect information relating to the causes of change in estuary habitat types, distribution, and quantity. This will help in defining the types of projects that may be needed, setting realistic goals, and influencing the design. For example, if the primary limiting factor is water quality and the source of the problem is upstream, success of any estuary restoration project might be limited until the upstream problem is resolved.

Project proposals submitted to the Council for potential funding should contain information related to the trends for estuary habitat types in the project area and explain how this information was considered when developing the project proposal. The Council will give priority to projects that clearly address historic losses in areas where steps are being taken to address the causes of degradation and where there is a reasonable likelihood of success in the foreseeable future.

Estuary Management or Habitat Restoration Plans [This section covers 106(d)(2)]

This Strategy will be implemented in a manner consistent with estuary management or habitat restoration plans. An estuary habitat restoration plan is defined in the Act as “* * * any Federal or State plan for restoration of degraded estuary habitat that was developed with the substantial participation of appropriate public and private stakeholders.” Included are the estuary habitat restoration components of comprehensive conservation and management plans approved under section 320 of the Federal Water Pollution Control Act (FWPCA), lake wide management plans or remedial action plans developed under section 118 of the FWPCA, management plans approved under the Coastal Zone Management Act of 1972, and the interstate management plan developed pursuant to the Chesapeake Bay program under section 117 of the FWPCA.

Effective estuary habitat restoration plans typically contain common elements such as focusing on the watershed as the basic management unit, integrating good science with sound decision-making, and emphasizing collaborative problem solving. Also essential is public and private stakeholder participation. This is crucial to the final success of any plan, because those individuals and private interests affected by measures to maintain and restore the estuary are ultimately responsible for implementing the plan. Providing them the opportunity to design and contribute during early planning stages promotes “buy-in” when the time comes to undertake restoration actions and activities.

Another component of successful restoration plans is clearly identifying a central goal or set of goals and describing means for measuring progress toward achieving these goals. Performance measures may be as simple as the number of acres of habitat directly restored or protected. Many federally approved estuary management and restoration plans track major milestones or other implementation activities to ensure progress is occurring, or if it is not, to identify what necessary steps to take to move forward.

Successful plans also include trend assessment, which is critical to watershed characterization, such as loss of historic estuarine habitat, land use, development, recreation, and fisheries pressures. This information is necessary to identify problems facing a given estuarine watershed and to select those actions necessary to return it to the desired state. Status and trend information can help to assess the condition of the highest priority resources and can forecast future conditions should current trends continue. It can also highlight data gaps.

Finally, plans should identify management and restoration priorities. Identifying regional or estuary-level restoration priorities will help projects address the most critical habitat needs. The Council will give priority to those projects that have the best potential to restore critical habitat functions successfully. Improved planning will also allow benefits to be accrued over a larger scale, enhancing the overall effectiveness of restoration efforts.

In accordance with the Act, every project considered for funding under this authority must address restoration needs identified in an estuary habitat restoration plan. Additionally, one of the factors for the Secretary of the Army (Secretary) to consider when selecting a project to fund is whether the project is part of an approved Federal estuary management or habitat restoration plan. This selection criterion will help ensure that the Strategy is implemented in a manner consistent with such plans.

Agency staff supporting the Council participated in and reviewed the results of a recent effort supported by the National Oceanic and Atmospheric Administration (NOAA) and led by Restore America's Estuaries (RAE), a nongovernmental organization, to review existing estuary restoration plans. Plans reviewed included those developed for Federal programs such as the National Estuary Program (Comprehensive Conservation and Management Plans), State Coastal Zone Management Plans, and other State plans and watershed or estuary plans, such as the Puget Sound Water Quality Management Plan and Ecoregional Plans developed by The Nature Conservancy. Review of these plans revealed that the level and sophistication of planning for estuarine and coastal habitat restoration varies significantly among the regions and watersheds of the United States. In some coastal areas, only broad, coastal management planning has been completed, while in other areas sophisticated planning efforts with strong community and stakeholder participation have determined specific habitat restoration goals and priorities.

By working with State and local agencies and nongovernmental organizations, the Council will help to identify gaps in planning, and encourage sharing of information and other collaborative efforts to improve restoration plans. The Council will also seek to promote coordination of planning activities associated with other State and Federal programs. For example, the Council will encourage regional planning workshops, bringing together resource managers, scientists, and other stakeholders to establish restoration goals and priorities. The Council could also identify and recommend the use of successful planning frameworks such as those developed by the National Estuary Program and other examples.

Ecosystem Level Approach [This section covers 106(d)(3)]

This Strategy recognizes that successful estuary restoration projects with multiple goals will improve ecosystem function. Restoration projects should be designed using an ecosystem or watershed approach to re-establish a self-sustaining area that provides the structure and function necessary to support the many interrelated physical, biological, and chemical components of healthy estuary habitats. An ecosystem or watershed approach will facilitate the development of projects with multiple benefits. Examining how actions fit into the surrounding area and considering economic, recreational, water quality, land use, and other parameters is necessary to achieve restoration goals. Estuarine habitats are a web of interrelated components, each supporting and depending on the other for healthy function.

Estuary restoration projects that include physical and functional restoration should provide healthy ecosystems to support wildlife, including endangered and threatened species, migratory birds, and resident species of an estuary watershed, as well as fish and shellfish, including commercial and recreational fisheries.

Restoration of healthy ecosystem function can provide improved water quality and flood control benefits. For example, healthy and intact tidal wetlands filter water flowing from rivers and tributaries to the ocean, remove pollutants from runoff and trap and assimilate nutrients. Estuarine wetlands also have the capacity to store floodwater and can provide a critical physical buffer between land and water, protecting communities from flooding and storm surge.

Healthy estuaries also provide multiple opportunities for outdoor recreation, such as recreational fishing, boating, birding, and a variety of water sports. The recreation industry dependent on healthy estuaries provides significant income to coastal regions. Restoration projects completed under this Strategy may incorporate recreational features that are compatible with the primary goal of restoring healthy habitat function.

In its review of project proposals, the Council will support projects developed in an ecosystem context with multiple benefits. The Council will work with others to share examples of particularly effective projects that exemplify this process.

Partnerships [This section covers 106(d)(1)]

To achieve the goal of restoring one million acres of estuary habitat, it will be important to involve individuals and organizations from both the public and private sectors. Enhancing partnerships among agencies and establishing new public-private partnerships is a central theme of the Act and a critical part of this Strategy.

In order to meet the goals of the Act, the Council will improve coordination among existing restoration programs by reviewing and discussing programs administered by agencies represented on the Council, and developing shared goals and objectives for habitat restoration. Although agencies may differ in their implementation strategies, developing common goals will facilitate coordination. The Council will also coordinate with State habitat restoration programs to improve the effectiveness of restoration efforts.

In order to maximize public-private partnerships, the Council encourages collaboration among public agencies, private organizations, companies, and individuals (e.g., private landowners, hunters, birders, fishermen, etc.) in restoration efforts. This connectivity encourages private organizations, companies, landowners and others to bring their resources (financial or in-kind) to the table to assist in planning and implementing successful restoration projects. There are several existing programs that provide models for successful partnerships, including the Coastal America Corporate Wetlands Restoration Partnership, a voluntary public-private partnership in which corporations join with Federal and State agencies to restore wetlands and other aquatic habitats.

Private support can range from providing materials or funding to the use of volunteers for hands-on restoration or monitoring. One way to encourage resourceful, active partnerships, and especially to acknowledge the efforts of volunteers, is to establish annual awards recognizing successful restoration efforts. These awards may be given to a wide variety of groups, including nongovernmental organizations, individuals, businesses, and local, State and Federal agencies to reward efforts at all levels.

Private partnerships may also be critical for those projects involving demonstration or pilot testing of an innovative technology. The estuary habitat restoration program established in the Act requires a non-Federal interest to provide a minimum of 35 percent of the costs of a restoration project. However, when innovative technology is involved, the percentage required to be contributed by the non-Federal interest shall be reduced to 15 percent for the incremental cost of using the new technology. The Council will consider technology “innovative” if it involves a new process, technique, or material or uses existing processes, techniques, or materials in a new application.

The non-Federal interests must provide all of the lands, easements, rights-of-way and relocations. The non-Federal interest is also responsible for all costs associated with operation, maintenance, replacement, repair and rehabilitation of the project, including monitoring. This presents many opportunities for the involvement of a broad array of individuals and organizations to participate in the restoration effort.

To expand the base of support for restoration, the Council will encourage member Agencies and private partners to maintain and expand existing web sites that provide information on both public and private sources of funding for estuary projects. Web sites should include links to other web sites that emphasize accomplishments of completed restoration projects. Effective implementation of any restoration plan requires a well-developed funding strategy that identifies governmental, nonprofit, and private resources to provide support both in the near and long term.

The Council will work with other Federal, State and local agencies, nongovernmental organizations and private parties to identify and publicize funding sources, and will also identify examples of effective partnerships that have implemented estuary restoration projects. For example, the U.S. Environmental Protection Agency has established the Environmental Finance Program to assist communities in their search for creative approaches to funding their environmental projects. Environmental finance centers at universities provide publications, analyses of financing alternatives, training, and technical assistance, including workshops for local governments that discuss watershed-financing alternatives. In 2001, the National Estuary Program sponsored workshops on funding solutions for estuary programs and comprehensive conservation management plan implementation. The National Fish and Wildlife Foundation and the Coastal America Corporate Wetlands Restoration Partnership (http://www.coastalamerica.gov/text/cwrp) are other examples of the resources available to help non-Federal interests obtain support for estuary projects.

Habitat Restoration Program [This section covers 106(d)(6) and (7)]

The Act establishes “an estuary habitat restoration program under which the Secretary may carry out estuary habitat restoration projects and provide technical assistance in accordance with the requirements of this title.” This is one means for achieving the one million acre goal of the Strategy. The statute includes requirements for non-Federal origination of projects, selection criteria, cost-sharing, operation and maintenance, authority for nongovernmental agencies to be sponsors, a requirement for a written agreement between the non-Federal sponsor and the Secretary, and potential delegation of project implementation.

The Act defines the term estuary habitat restoration activity to mean “an activity that results in improving degraded estuaries or estuary habitat or creating estuary habitat (including both physical and functional restoration), with the goal of attaining a self-sustaining system integrated into the surrounding landscape.” Projects funded under this program will be consistent with this definition. Eligible habitat restoration activities include re-establishment of chemical, physical, hydrologic, and biological features and components associated with an estuary. This may entail improvement of estuarine wetland tidal exchange or reestablishment of historic hydrology, providing fish passage, establishment of riparian buffer zones, construction of reefs to promote fish and shellfish production, reintroduction of native species, and control of nonnative or invasive species. Cleanup of pollution for the benefit of estuary habitat may be considered, as long as it does not meet the definition of excluded activities in the Act. Excluded activities are those required for mitigation of adverse effects of a regulated activity or that constitutes restoration for natural resource damages.

Section 104(c) of the Act contains four required elements and seven listed selection factors to be considered by the Secretary of the Army when determining which projects to fund. Projects must address restoration needs identified in an estuary plan, be consistent with this Strategy, include a monitoring plan, and include satisfactory assurance that the non-Federal interest has adequate authority and resources. The listed selection factors are: inclusion in an approved Federal plan, technical feasibility, scientific merit, encouragement of increased cooperation among government agencies at all levels, fostering of public-private partnerships, cost effectiveness, and whether the State has a dedicated source of funding for acquisition or restoration of estuary habitat. If a project merits selection based on the above criteria, then priority consideration will be given to a project if it: (a) Occurs within a watershed where there is a program being implemented that addresses sources of pollution and other activities that otherwise would adversely affect the restored habitat water quality in the watershed; or (b) includes an innovative technology having the potential for improved cost-effectiveness.

The Council will consider the factors discussed above during its review and ranking of proposals for the Secretary's consideration. Additional criteria may also be developed by the Council to facilitate review and these will be included in the program guidance. The list of recommended projects will be provided in priority order. The Secretary may consider other factors when selecting projects to fund from the list provided by the Council.

In addition to considering the selection and priority factors in sections 104(c)(3) and (4), the Secretary will also select a balance of smaller and larger estuary habitat projects and ensure an equitable geographic distribution of the funded projects. The Council recognizes that the scope of a project is not always directly proportional to the cost and that projects are sometimes difficult to characterize adequately in terms of acreage to be restored. For purposes of selecting a balance of smaller and larger estuary habitat restoration projects, the Council will use a combination of cost and acreage to be manipulated as criteria to define small projects. In general, a small project would be one with a Federal cost of $250,000 or less and that manipulates 50 acres or less. The Council will discuss and classify projects that cannot be easily characterized as “small” because of conflicts between cost and acreage factors. The availability of funding, project costs, and the nature of the proposals will affect the ability to assure equitable geographic distribution of projects funded by this program. In any one year, the Council may recommend funding more projects in one region than another but will consider the number, scope and cost of funded projects in a region when making subsequent funding decisions.

The goal will be to select those projects of highest national priority while assuring that all regions of the country benefit from the program. The Council will explore various means for defining national priorities and consider those priorities in project selection.

Ensuring Success

The Act stipulates that monitoring is essential for evaluating and documenting our progress toward reaching the goal of restoring one million acres of estuary habitat. By closely tracking progress at the project level, we can determine whether individual projects contribute to meeting the goals of estuary and regional restoration plans, and tally habitat acreage restored over a national scale. In addition to monitoring at the project level, ecosystem-level monitoring may also be needed to judge restoration success. Monitoring information will allow restoration planners and practitioners to modify their efforts according to on-the-ground results, and can build long-term public support for habitat protection and restoration efforts.

Because monitoring is essential to both documenting success and adapting project and program approaches, it should be a central concern of those designing a restoration project or regional restoration plan. For each habitat type to be restored, the monitoring plan should define the desired structure and functions in the context of project goals, and identify attributes indicating those functions. Quantitative performance standards for projects should include functional and structural elements and be linked to appropriate, local reference habitats that represent “target conditions.” It may also be useful to compare the project site to degraded, non-restored “control” sites to better document project-induced improvements in habitat condition.

Ideally, restoration goals should be quantitative, as well as spatially and temporally specific. Project goals should also be measurable and realistic. A realistic goal should consider causes of past decline of the habitat proposed for restoration and surrounding land cover and ecosystem conditions. Monitoring data should be used to guide project operations and maintenance.

Specific project goals will determine the appropriate complexity of each monitoring plan. The project must include monitoring on a regular basis and over a meaningful time period. The length of the ideal monitoring program will vary depending on the habitat type and project goals for restoring function, but should always include pre-construction measurements to establish baseline conditions, monitoring during project construction to determine whether to adjust techniques or goals, and post-construction monitoring to confirm success of the restoration and alert project managers to the need for adjustments. Project monitoring should document any changes to the original construction specifications, including what problems were encountered, the reasoning behind any changes, and any changes the project staff would recommend with the knowledge they now possess. Information on changes from baseline conditions and comparison to reference or control sites should be included as well.

Beyond monitoring individual restoration projects, local, State or regional groups should also conduct monitoring over the estuary or regional scale to allow a more complete evaluation of restoration successes. System-wide monitoring of water quality and other habitat parameters can gauge ecosystem improvements beyond those achieved at project sites. Additionally, remote sensing may be useful in documenting both baseline habitat information and large-scale changes in habitat coverage and conditions.

The restoration and maintenance of healthy coasts and estuaries will require the long-term support of a broad cross-section of the public. Including local communities in planning and implementing restoration projects will build interest in protecting and maintaining restored habitat. Increased awareness of the attributes needed to sustain healthy habitat will increase local stewardship of the environment and will help to ensure the long-term success of restoration projects.

The National Oceanic and Atmospheric Administration (NOAA), in consultation with the Council, will develop standard data formats for project monitoring, along with requirements for types of data collected and frequency of monitoring. These standards will build on existing inter-agency efforts to develop monitoring protocols and restoration databases. These standards are not intended to limit the types of information gathered by project managers, but rather to ensure that data will be useful to other parties, and to facilitate regional and national tracking of restoration success. Consistent data collection and reporting standards should clarify results, make selection and justification of restoration methods more straightforward, ensure that success is documented based on sufficient data, enhance the restoration knowledge base, and increase the comparability of data among restoration projects.

In addition to developing monitoring data standards, NOAA will also maintain a database of information concerning estuary habitat restoration projects carried out under the Act, including information on project techniques, project completion, monitoring data, and other relevant information. This database will be Internet-accessible, to allow widespread dissemination and use of restoration project and monitoring data.

Conclusions

The actions described in this Strategy facilitate reaching the goal of restoring one million acres of estuary habitat by 2010. There are many existing programs and organizations actively involved in estuary restoration whose efforts will also contribute significantly to estuary restoration. Examples include the National Estuary Program, the National Estuarine Research Reserve System, Restore America's Estuaries member organizations, and the program implementing the Coastal Wetlands Planning, Protection, and Restoration Act.

The Strategy is intended to be dynamic. Working with the organizations listed above and other interested stakeholders, the Council will review and refine this Strategy over time in an iterative process, as new information becomes available and progress toward meeting the goals of the Act is evaluated. Section 108(a) of the Act requires the Secretary to report to Congress at the end of the third and fifth fiscal years. As part of this process the Council will review the Strategy and update as necessary.

The Council will prepare additional documents and make them available for public comment regarding habitat restoration program implementation and the development of the monitoring standards. As indicated in this Strategy, the Council will promote a variety of efforts to facilitate promotion of partnerships and efficient, effective restoration of estuary habitats.

References

Cowardin, L.M. V. Carter, F.C. Golet, and E.T. LaRoe. 1979. “Classification of wetlands and deepwater habitats of the United States.” U.S. Fish and Wildlife Service. Biological Services Program; FWS/OBS-79/31. 131 pp. Dahl, T.C. 2000. “Status and trends of wetlands in the contiguous United States, 1986-1997.” US Department of the Interior, Fish and Wildlife Service. Washington, DC.

Luz D. Ortiz,
Army Federal Register Liaison Officer.

[FR Doc. 02-11074 Filed 5-2-02; 8:45 am]

BILLING CODE 3710-92-P